DEPARTMENT OF ENERGY

Federal Energy Regulatory Commission

[Docket No. IC11-549B-001]

Commission Information Collection Activities (FERC-549B); Comment Request; Submitted for OMB Review

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review of this information collection requirement. Any interested person may file comments directly with OMB and should address a copy of those comments to the Commission as explained below. The Commission received no comments in response to an earlier Federal Register notice of June 23, 2011 (76 FR 36909) and has made this notation in its submission to OMB.

DATES: Comments on the collection of information are due by October 7, 2011.

ADDRESSES: Address comments on the collection of information to the Office of Management and Budget, Office of Information and Regulatory Affairs, Attention: Federal Energy Regulatory Commission Desk Officer. Comments to OMB should be filed electronically, c/o oira__submission@omb.eop.gov and include OMB Control Number 1902-0203 for reference. The Desk Officer may be reached by telephone at 202-395-4638.

A copy of the comments should also be sent to: Federal Energy Regulatory Commission, Secretary of the Commission, 888 First Street, NE., Washington, DC 20426. Comments may be filed either on paper or on CD/DVD, and should refer to Docket No. IC11-549B-001. Documents must be prepared in an acceptable filing format and in compliance with Commission submission guidelines at http://www.ferc.gov/help/submission-guide.asp. eFiling and eSubscription are not available for Docket No. IC11-549B-001, due to a system issue.

All comments may be viewed, printed or downloaded remotely via the Internet through FERC's homepage using the “eLibrary” link. For user assistance, contact ferconlinesupport@ferc.gov or toll-free at (866) 208-3676, or for TTY, contact (202) 502-8659.

FOR FURTHER INFORMATION CONTACT: Ellen Brown may be reached by e-mail at DataClearance@FERC.gov, by telephone at (202) 502-8663, and by fax at (202) 273-0873.

SUPPLEMENTARY INFORMATION: The information collected under the requirements of FERC-549B, “Gas Pipeline Rates: Capacity Information”, includes both the Index of Customers (IOC) report under Commission regulations at 18 Code of Federal Regulations (CFR) 284.13(c) and three capacity reporting requirements. One of these is in Commission regulations at 18 CFR 284.13(b) and requires reports on firm and interruptible services. The second is at 18 CFR 284.13(d)(1) and requires pipelines make information on capacity and flow information available on their Internet web sites. The third is at 18 CFR 284.13(d)(2) and requires an annual filing of peak day capacity.

Capacity Reports Under 284.13(b) and 284.13(d)(1)

On April 4, 1992, in Order No. 636 (RM91-11-000), the Commission established a capacity release mechanism under which shippers could release firm transportation and storage capacity on either a short- or long-term basis to other shippers wanting to obtain capacity. Pipelines posted available firm and interruptible capacity information on their electronic bulletin boards (EBBs) to inform potential shippers.

On August 3, 1992, in Order No. 636-A (RM91-11-002), the Commission determined through staff audits, that the efficiency of the capacity release mechanism could be enhanced by standardizing the content and format of capacity release information and the methods by which shippers accessed this information, which pipelines posted to their EBBs.

On March 29, 1995, through Order 577 (RM95-5-000), the Commission amended § 284.243(h) of its regulations to allow shippers the ability to release capacity without having to comply with the Commission's advance posting and bidding requirements.

On February 9, 2000, in Order No. 637 (RM98-10-000), to create greater substitution between different forms of capacity and to enhance competition across the pipeline grid, the Commission revised its capacity release regulations regarding scheduling, segmentation and flexible point rights, penalties, and reporting requirements. This resulted in more reliable capacity information availability and price data that shippers needed to make informed decisions in a competitive market as well as to improve shipper's and the Commission's ability to monitor the market for potential abuses. This order also required company postings to be on the company Web site instead of outdated EBBs.

Peak Day Annual Capacity Report Under 284.13(d)(2)

18 CFR 284.13(d)(2) requires an annual peak day capacity report of all interstate pipelines, including natural gas storage only companies. This report is generally a short report showing the peak day design capacity or the actual peak day capacity achieved, with a short explanation, if needed. The regulation states:

An interstate pipeline must make an annual filing by March 1 of each year showing the estimated peak day capacity of the pipeline's system, and the estimated storage capacity and maximum daily delivery capability of storage facilities under reasonably representative operating assumptions and the respective assignments of that capacity to the various firm services provided by the pipeline.

This annual report/filing is publicly available, while other more specific interstate pipeline and storage capacity details are filed as CEII, such as the Annual System Flow Diagram (FERC-567) which are not publicly available.

Index of Customers Under 284.13(c)

In Order 581, issued September 28, 1995 (Docket No. RM95-4-000), the Commission established the IOC quarterly information requirement. This Order required the reporting of five data elements in the IOC filing: The customer name, the rate schedule under which service is rendered, the contract effective date, the contract termination date, and the maximum daily contract quantity, for either transportation or storage service, as appropriate.

In a notice issued separate from Order 581 in Docket No. RM95-4-000, issued February 29, 1996, the Commission, through technical conferences with industry, determined that the IOC data reported should be in tab delimited format on diskette and in a form as proscribed in Appendix A of the rulemaking. In a departure from past practice, a three-digit code, instead of a six-digit code, was established to identify the respondent.

In Order 637, issued February 9, 2000 (Docket Nos. RM98-10-000 and RM98-12-000), the Commission required the filing of: The receipt and delivery points held under contract and the zones or segments in which the capacity is held, the common transaction point codes, the contract number, the shipper identification number, an indication whether the contract includes negotiated rates, the names of any agents or asset managers that control capacity in a pipeline rate zone, and any affiliate relationship between the pipeline and the holder of capacity. It was stated in the Order that the changes to the Commission's reporting requirements would enhance the reliability of information about capacity availability and price that shippers need to make informed decisions in a competitive market as well as improve shippers' and the Commission's ability to monitor marketplace behavior to detect, and remedy anti-competitive behavior. Order 637 required a pipeline post the information quarterly on its Internet Web sites instead of on the outdated EBBs.

Action: The Commission is requesting a three-year extension of the FERC-549B reporting requirements, with no changes.

Burden Statement: The estimated annual public reporting burden for this collection is estimated as:

FERC-549B requirement | Number of respondents annually (1) | Number of responses per respondent (2) | Average burden hours per response (3) | Total annual burden hours (1) × (2) × (3)
Capacity Reports under 284.13(b) and 284.13(d)(1) | 129 | 6 | 145 | 112,230
Peak Day Annual Capacity Report under 284.13(d)(2) | 129 | 1 | 10 | 1,290
Index of Customers under 284.13(c) | 129 | 4 | 3 | 1,548
Total |  |  |  | 115,068

The total estimated annual cost burden to respondents is $7,876,183 (115,068 hours/2,080 hours ¹ per year, times $142,372 ²). The estimated annual burden per respondent is $61,056 (rounded).

¹ Estimated number of hours an employee works each year.

² Estimated average annual cost per employee.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

Dated: August 30, 2011.
Kimberly D. Bose,
Secretary.

[FR Doc. 2011-22712 Filed 9-6-11; 8:45 am]

BILLING CODE 6717-01-P